DEPARTMENT OF COMMERCE

National Oceanic and Atmospheric Administration

50 CFR Part 648

[Docket No. 010710173-1183-02; I.D. 070901C]

RIN 0648-AO54

Fisheries of the Northeastern United States; Summer Flounder, Scup, Black Sea Bass, Loligo Squid, Illex Squid, Atlantic Mackerel, Butterfish, and Bluefish Fisheries; Framework Adjustment 1; Correction

AGENCY: National Marine Fisheries Service (NMFS), National Oceanic and Atmospheric Administration (NOAA), Commerce.

ACTION: Final rule; correction.

SUMMARY: The final rule to implement Framework Adjustment 1 for the summer flounder, scup, black sea bass, Loligo squid, Illex squid, Atlantic mackerel, butterfish, and bluefish fisheries published on Friday, August 10, 2001, contained errors in the preamble, amendatory instructions, and designation of a revised paragraph. This document corrects the errors.

DATES: Effective August 10, 2001.

FOR FURTHER INFORMATION CONTACT: William D. Chappell, Fishery Management Specialist, 301-713-2341 or e-mail at William.Chappell@noaa.gov.

SUPPLEMENTARY INFORMATION:

Background

The final rule to implement Framework Adjustment 1 for the summer flounder, scup, black sea bass, Loligo squid, Illex squid, Atlantic mackerel, butterfish, and bluefish fisheries was published on August 10, 2001 (66 FR 42156). In that rule, the regulatory indentifier number (RIN) was incorrect, the DATES section did not indicate that the date was the effective date of the regulation, amendatory instruction 4 did not clearly indicate that only the introductory text of § 648.100(d) was revised, and amendatory instruction 5 and the regulatory text incorrectly revised § 648.120, paragraph (b)(4) instead of the correct paragraph (b)(6).

Correction

Accordingly, the publication on August 10, 2001, of Framework Adjustment 1 for the summer flounder, scup, black sea bass, Loligo squid, Illex squid, Atlantic mackerel, butterfish, and bluefish fisheries (I.D. 070901C), which appeared in the final regulations, and was the subject of document FR Doc. 01-20113, is corrected as follows:

On page 42156, third column, the RIN is corrected to read as follows:

RIN 0648-AO54

On page 42157, first column, the DATES section is corrected to read as follows:

DATES: Effective August 10, 2001.

On page 42160, third column, amendatory instruction 4 is corrected to read as follows:

§ 648.100 [Corrected]

4. In § 648.100, paragraphs (a), (b), and the introductory text of (d) are revised, and paragraph (f) is added to read as follows:

On page 42161, second and third columns, amendatory instruction 5 and the text to paragraph (b)(6) are corrected to read as follows:

§ 648.120 [Corrected]

5. In § 648.120, paragraphs (a), (b) introductory text, (b)(1), (b)(6), and (c) are revised, and paragraph (e) is added to read as follows:

* * * * *

(b) * * *

(6) Recreational possession limit set from a range of 0 to 50 scup to achieve the specified exploitation rate, set after the reduction for research quota.

* * * * *

Authority: 16 U.S. C. 1801 et seq.

Dated: August 21, 2001.
William T. Hogarth
Acting Assistant Administrator for Fisheries, National Marine Fisheries Service.

[FR Doc. 01-21600 Filed 8-27-01; 8:45 am]

BILLING CODE 3510-22-S